DEPARTMENT OF COMMERCE

National Oceanic and Atmospheric Administration

[I.D. 092104D]

Magnuson-Stevens Act Provisions; General Provisions for Domestic Fisheries; Application for Exempted Fishing Permits

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow commercial fishing vessels to conduct fishing operations that are otherwise restricted by the regulations governing the fisheries of the Northeastern United States. The EFP would allow for an exemption from the FMP as follows: Groundfish Closed Area I. Regulations under the Magnuson-Stevens Fishery Conservation and Management Act require publication of this notification to provide interested parties the opportunity to comment on applications for proposed EFPs.

DATES: Comments on this document must be received on or before October 12, 2004.

ADDRESSES: Comments on this notice may be submitted by e-mail. The mailbox address for providing e-mail comments is DA640@noaa.gov. Include in the subject line of the e-mail comment the following document identifier: “Comments on URI Bycatch Reduction Study.” Written comments should be sent to Patricia A. Kurkul, Regional Administrator, NMFS, Northeast Regional Office, 1 Blackburn Drive, Gloucester, MA 01930. Mark the outside of the envelope “Comments on URI Bycatch Reduction Study.” Comments may also be sent via facsimile (fax) to (978) 281-9135.

FOR FURTHER INFORMATION CONTACT: Brian Hooker, Fishery Policy Analyst, phone 978-281-9220.

SUPPLEMENTARY INFORMATION: The University of Rhode Island, Department of Fisheries, Animal and Veterinary Science (URI) submitted an initial application for an EFP on July 19, 2004. The experimental fishing application requests authorization for activities to conduct a bycatch reduction study of cod in the haddock bottom trawl fishery. The purpose of the study is to determine if the experimental trawl gear would achieve a reduction in cod bycatch significant enough to warrant consideration as a Special Access Program (SAP) under provisions in Amendment 13 to the FMP.

The proposed research would utilize three commercial fishing vessels to conduct a bycatch reduction study in the directed haddock bottom trawl fishery from November 2004 through November 2005, using side-by-side tows to compare the control net with one experimental large-mesh net. The control net would be a standard net with a 6-inch (15.24-cm) mesh body, and 8-inch (20.32-cm) mesh wings and jibs. The experimental net would utilize a graduated netting starting with 8-ft (2.44-m) mesh and ending in the standard 6-inch (15.24-cm) mesh. The mesh size in both nets is equal to or greater than the required minimum mesh size. The experiment would incorporate four fishing trips, each five days in duration. There would be four to six, 1.5-hour tows per day per vessel.

This experiment hopes to demonstrate that Closed Area I is able to support a targeted haddock fishery with only minimal bycatch of cod using the experimental net. Therefore, the applicant requested that this project occur in the groundfish closure area for the purposes of determining if a SAP could be established there. It is anticipated that this project would retain the following species: Haddock-300,000 lb (136,077 kg); winter flounder-40,000 lb (18,144 kg); yellowtail flounder-25,000 lb (11,340 kg); cod-30,000 lb (13,608 kg); witch flounder-25,000 lb (11,340 kg); American plaice-25,000 lb (11,340 kg). The anticipated discards from the project are: Cod-5,000 lb (2,268 kg); and skate-80,000 lb (36,287 kg). All catch retained would comply with the minimum fish sizes and possession limits established by the FMP.

Additionally, once the project reaches the estimated total catch (landings and discards) of cod, i.e., 35,000 lb (15,876 kg), the project would be terminated. Catch would be monitored on a trip-by-trip basis. The proceeds from the sale of the catch would be retained by the Commercial Fisheries Research Foundation to be used for further research projects. Access to Closed Area I would not include access to the Closed Area I North Habitat Closure Area nor the South Habitat Closure Area, since mobile gear is restricted from these areas in consideration of essential fish habitat. This project would not be exempt from the days-at-sea (DAS) effort control measures. If the researchers desire to enter the Western U.S./Canada Area they would be subject to regulations, including quota and possession limits, governing that area at that time.

This EFP would allow for an exemption from the FMP as follows: Groundfish Closed Area I, as specified in 50 CFR 648.81(a).

Authority: 16 U.S.C. 1801 et seq.

Dated: September 22, 2004.
Alan D. Risenhoover,
Acting Director, Office of Sustainable Fisheries, National Marine Fisheries Service.

[FR Doc. E4-2388 Filed 9-24-04; 8:45 am]

BILLING CODE 3510-22-S